FEDERAL COMMUNICATIONS COMMISSION

47 CFR Part 54

[GN Docket No. 20-32; FCC 20-150; FRS 37029]

Establishing a 5G Fund for Rural America

AGENCY: Federal Communications Commission.

ACTION: Final rule; announcement of effective date.

SUMMARY: In this document, the Commission announces that the Office of Management and Budget has approved new information collection requirements associated with a new or amended rule adopted in the Federal Communications Commission's 5G Fund Report and Order, FCC 20-150. This document is consistent with the 5G Fund Report and Order, which states that the Commission will publish a document in the Federal Register announcing the effective date for the new or amended rule section.

DATES: The addition of 47 CFR 54.322(c)(4), published at 85 FR 75770 on November 25, 2020, is effective July 14, 2021.

FOR FURTHER INFORMATION CONTACT: Valerie Barrish, Auctions Division, Office of Economics and Analytics, at (202) 418-0354 or Valerie.Barrish@fcc.gov.

SUPPLEMENTARY INFORMATION: This document announces that the Office of Management and Budget (OMB) approved the information collection requirements in 47 CFR 54.322(c)(4), on June 16, 2021. This rule was adopted in the 5G Fund Report and Order, FCC 20-150. The Commission publishes this document as an announcement of the effective date for this new rule. OMB approval for all other new or amended rules adopted in the 5G Fund Report and Order for which OMB approval is required will be requested, and the effective date for those rules will be announced following OMB's approval. See 85 FR 75770 (Nov. 25, 2020). If you have any comments on the burden estimates listed below, or how the Commission can improve the collections and reduce any burdens caused thereby, please contact Cathy Williams, Federal Communications Commission, Room 3.317, 45 L Street NE, Washington, DC 20554, regarding OMB Control Number 3060-1289. Please include the OMB Control Number in your correspondence. The Commission will also accept your comments via email at PRA@fcc.gov. To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the Commission is notifying the public that it received final OMB approval on June 16, 2021, for the information collection requirements contained in 47 CFR 54.322(c)(4). Under 5 CFR part 1320, an agency may not conduct or sponsor a collection of information unless it displays a current, valid OMB Control Number.

No person shall be subject to any penalty for failing to comply with a collection of information subject to the Paperwork Reduction Act that does not display a current, valid OMB Control Number. The OMB Control Number for the information collection requirements in 47 CFR 54.322(c)(4) is 3060-1289. The foregoing notice is required by the Paperwork Reduction Act of 1995, Public Law 104-13, October 1, 1995, and 44 U.S.C. 3507.

The total annual reporting burdens and costs for the respondents are as follows:

OMB Control Number: 3060-1289.

OMB Approval Date: June 16, 2021.

OMB Expiration Date: June 30, 2024.

Title: Legacy Support Usage Flexibility Certification.

Form Number: N/A.

Respondents: Business or other for-profit entities, not-for-profit institutions, and state, local or tribal governments.

Number of Respondents and Responses: Up to 110 respondents and 110 responses.

Estimated Time per Response: 1.75 hours.

Frequency of Response: One-time reporting requirement.

Obligation to Respond: Required to obtain or retain benefits. Statutory authority for this information collection is contained in 47 U.S.C. 154, 254 and 303(r).

Total Annual Burden: 193 hours.

Total Annual Cost: $16,500.

Privacy Act Impact Assessment: No impact(s).

Nature and Extent of Confidentiality: The information collected under this collection will be made publicly available. However, to the extent that a respondent seeks to have certain information collected in response to this information collection withheld from public inspection, the respondent may request confidential treatment of such information pursuant to § 0.459 of the Commission's rules, 47 CFR 0.459.

Needs and Uses: On October 27, 2020, the Commission adopted the 5G Fund Report and Order, FCC 20-150, in which it, among other things, adopted additional public interest obligations and performance requirements for legacy high-cost support recipients, whose broadband-specific public interest obligations for mobile wireless services were not previously detailed. The public interest obligations adopted in the 5G Fund Report and Order for each competitive eligible telecommunications carrier (ETC) receiving legacy high-cost support for mobile wireless services require that such a carrier (1) use an increasing percentage of its legacy support toward the deployment, maintenance, and operation of voice and broadband networks that support 5G meeting the adopted performance requirements within its subsidized service area(s), and (2) meet specific 5G broadband service deployment coverage requirements and service deployment milestone deadlines that take into consideration the amount of legacy support the carrier receives. With respect to the requirement to use an increasing percentage of its legacy support toward the deployment, maintenance, and operation of voice and broadband networks that support 5G, the rules adopted in the 5G Fund Report and Order specify that each legacy support recipient must use at least one-third of the legacy support it receives in 2021, at least two-thirds of the legacy support it receives in 2022, and all of the legacy support in 2023 and beyond for these purposes.

To address a concern that budgets and deployment plans for 2021 are largely complete, which could make it difficult for some competitive ETCs to achieve the 2021 support usage requirement, the Commission adopted a rule that affords such competitive ETCs the flexibility to use less than one-third of their legacy support in 2021 and make up for any shortfall in 2021 by proportionally increasing the requirement in 2022 (above the two-thirds of its support the competitive ETC is required to spend on 5G in that year). See 47 CFR 54.322(c)(4). In order to take advantage of this flexibility, a competitive ETC receiving legacy support for mobile wireless services must submit a certification in which it (1) provides information regarding the service area(s) for which it and any affiliated mobile competitive ETC(s) receive legacy support and the annual amount of support they receive in each area; (2) indicates the total amount of legacy high-cost support to be spent on the deployment, maintenance, and operation of mobile networks that provide 5G service in calendar year 2021 across the identified service areas; and (3) certifies that any 2021 spending shortfall will be made up in 2022. Only those competitive ETCs receiving legacy high-cost support for mobile wireless services that wish to avail themselves of the flexibility concerning their 2021 and 2022 legacy high-cost support usage requirements will be required to respond to this information collection. The certification will be used by the Commission to identify how much a competitive ETC that chooses to avail itself of the flexibility concerning its 2021 and 2022 legacy high-cost support usage requirements will spend on 5G in 2021 and the spending shortfall it must make up in 2022, and to confirm the competitive ETC's commitment to make up its 2021 spending shortfall in 2022 in accordance with its certification and the Commission's rules.

Federal Communications Commission.
Marlene Dortch,
Secretary, Office of the Secretary.

[FR Doc. 2021-14724 Filed 7-13-21; 8:45 am]

BILLING CODE 6712-01-P